DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: January 22, 2016.
Roy E. Wright,
Deputy Associate Administrator for Insurance and Mitigation, Department of Homeland Security, Federal Emergency Management Agency.

State and county | Location and case No. | Chief executive officer of community | Community map repository | Effective date of modification | Community No.
Arizona:
Maricopa (FEMA Docket No.: B-1537) | City of Goodyear (15-09-0312P) | The Honorable Georgia Lord, Mayor, City of Goodyear, 190 North Litchfield Road, Goodyear, AZ 85338 | City Hall, 190 North Litchfield Road, Goodyear, AZ 85338 | Dec. 4, 2015 | 040046
Maricopa (FEMA Docket No.: B-1537) | Unincorporated areas of Maricopa County (15-09-0312P) | The Honorable Steve Chucri, Chairman, Maricopa County Board of Supervisors, 301 West Jefferson Street, 10th Floor, Phoenix, AZ 85003 | Flood Control District of Maricopa County, 2801 West Durango Street, Phoenix, AZ 85009 | Dec. 4, 2015 | 040037
Maricopa (FEMA Docket No.: B-1537) | City of Chandler (15-09-0578P) | The Honorable Jay Tibshraeny, Mayor, City of Chandler, 175 South Arizona Avenue, Chandler, AZ 85225 | Public Works Department, 215 East Buffalo Street, Chandler, AZ 85244 | Oct. 9, 2015 | 040040
Maricopa (FEMA Docket No.: B-1537) | Town of Gilbert (15-09-0578P) | The Honorable John Lewis, Mayor, Town of Gilbert, 50 East Civic Center Drive, Gilbert, AZ 85296 | Municipal Center, 50 East Civic Center Drive, Gilbert, AZ 85296 | Oct. 9, 2015 | 040044
Maricopa (FEMA Docket No.: B-1537) | Unincorporated areas of Maricopa County (15-09-0578P) | The Honorable Denny Barney, District 1 Supervisor, Maricopa County, 301 West Jefferson Street, Phoenix, AZ 85003 | Flood Control District, Maricopa County, 2801 West Durango Street, Phoenix, AZ 85009 | Oct. 9, 2015 | 040037
Maricopa (FEMA Docket No.: B-1552) | City of Peoria (15-09-1335P) | The Honorable Cathy Carlat, Mayor, City of Peoria, 8401 W. Monroe Street, Peoria, AZ 85345 | City Hall, 8401 West Monroe Street, Peoria, AZ 85345 | Dec. 11, 2015 | 040050
Pima (FEMA Docket No.: B-1519) | Unincorporated areas of Pima County (15-09-0406P) | The Honorable Sharon Bronson, Chair, Pima County Board of Supervisors, 130 West Congress Street, 11th Floor, Tucson, AZ 85701 | Pima County Flood Control District, 97 East Congress Street, 3rd Floor, Tucson, AZ 85701 | Aug. 19, 2015 | 040073
Pima (FEMA Docket No.: B-1537) | City of Tucson (15-09-0584P) | The Honorable Jonathan Rothschild, Mayor, City of Tucson, City Hall, 255 W. Alameda Street, Tucson, AZ 85701 | Planning and Development Services, 201 North Stone Avenue, 1st Floor, Tucson, AZ 85701 | Nov. 13, 2015 | 040076
Pinal (FEMA Docket No.: B-1519) | City of Maricopa (15-09-0819P) | The Honorable Christian Price, Mayor, City of Maricopa, 39700 West Civic Center Plaza, Maricopa, AZ 85138 | City Hall, 45145 West Madison Avenue, Maricopa, AZ 85139 | Aug. 21, 2015 | 040052
Yavapai (FEMA Docket No.: B-1519) | City of Cottonwood (14-09-4202P) | The Honorable Diane Joens, Mayor, City of Cottonwood, 827 North Main Street, Cottonwood, AZ 86326 | Public Works Department, 1490 West Mingus Avenue, Cottonwood, AZ 86326 | Aug. 20, 2015 | 040096
California:
Alameda (FEMA Docket No.: B-1552) | City of Alameda (15-09-1763X) | The Honorable Trish Herrera Spencer, Mayor, City of Alameda, City Hall, 2263 Santa Clara Avenue, Alameda, CA 94501 | 950 West Mall Square, Alameda, CA 94501 | Dec. 11, 2015 | 060002
Los Angeles (FEMA Docket No.: B-1537) | City of Burbank (15-09-0591P) | The Honorable Bob Frutos, Mayor, City of Burbank, 275 East Olive Avenue, Burbank, CA 91502 | Public Works Department, 275 East Olive Avenue, Burbank, CA 91502 | Dec. 10, 2015 | 065018
Placer (FEMA Docket No.: B-1519) | City of Rocklin (15-09-0659P) | The Honorable George Magnuson, Mayor, City of Rocklin, 3970 Rocklin Road, Rocklin, CA 95677 | Engineering Division, 4081 Alvis Court, Rocklin, CA 95677 | Aug. 21, 2015 | 060242
Riverside (FEMA Docket No.: B-1519) | City of Murrieta (15-09-1205P) | The Honorable Harry Ramos, Mayor, City of Murrieta, 1 Town Square, Murrieta, CA 92562 | Department of Public Works and Engineering, 1 Town Square, Murrieta, CA 92562 | Aug. 19, 2015 | 060751
Sacramento (FEMA Docket No.: B-1537) | City of Citrus Heights (15-09-1345P) | The Honorable Sue Frost, Mayor, City of Citrus Heights, 6237 Fountain Square Drive, Citrus Heights, CA 95621 | General Services Department, Engineering Division, 6237 Fountain Square Drive, Citrus Heights, CA 95621 | Oct. 22, 2015 | 060765
San Bernardino (FEMA Docket No.: B-1519) | City of San Bernardino (14-09-2935P) | The Honorable R. Carey Davis, Mayor, City of San Bernardino, 300 North D Street, 6th Floor, San Bernardino, CA 92418 | Water Department, 399 Chandler Place, San Bernardino, CA 92408 | Aug. 24, 2015 | 060281
San Diego (FEMA Docket No.: B-1537) | City of Santee (15-09-0699P) | The Honorable Randy Voepel, Mayor, City of Santee, 10601 Magnolia Avenue, Santee, CA 92071 | City Hall, 10601 Magnolia Avenue, Santee, CA 92071 | Nov. 20, 2015 | 060703
San Diego (FEMA Docket No.: B-1519) | Unincorporated areas of San Diego County (14-09-4066P) | The Honorable Bill Horn, Chairman, San Diego County Board of Supervisors, 1600 Pacific Highway, Room 335, San Diego, CA 92101 | Department of Public Works, Flood Control, 5510 Overland Avenue, Suite 410, San Diego, CA 92123 | Aug. 21, 2015 | 060284
Santa Clara (FEMA Docket No.: B-1552) | City of Morgan Hill (15-09-1137P) | The Honorable Steve Tate, Mayor, City of Morgan Hill, 17555 Peak Avenue, Morgan Hill, CA 95037 | Public Works Department, 17555 Peak Avenue, Morgan Hill, CA 95037 | Dec. 14, 2015 | 060346
Ventura (FEMA Docket No.: B-1537) | City of Simi Valley (15-09-1169P) | The Honorable Bob Huber, Mayor, City of Simi Valley, 2929 Tapo Canyon Road, Simi Valley, CA 93063 | Public Works Department, 2929 Tapo Canyon Road, Simi Valley, CA 93063 | Oct. 19, 2015 | 060421
Nevada:
Clark (FEMA Docket No.: B-1519) | City of Henderson (15-09-0701P) | The Honorable Andy A. Hafen, Mayor, City of Henderson, 240 Water Street, Henderson, NV 89015 | Public Works Department, 240 Water Street, Henderson, NV 89015 | Aug. 24, 2015 | 320005
Clark (FEMA Docket No.: B-1519) | City of Henderson (15-09-0720P) | The Honorable Andy A. Hafen, Mayor, City of Henderson, 240 Water Street, Henderson, NV 89015 | Public Works Department, 240 Water Street, Henderson, NV 89015 | Aug. 24, 2015 | 320005
Clark (FEMA Docket No.: B-1537) | City of Henderson (15-09-0952P) | The Honorable Andy A. Hafen, Mayor, City of Henderson, 240 Water Street, Henderson, NV 89015 | Public Works Department, 240 Water Street, Henderson, NV 89015 | Dec. 10, 2015 | 320005
Clark (FEMA Docket No.: B-1519) | Unincorporated areas of Clark County (15-09-0720P) | The Honorable Steve Sisolak, Chairman, Clark County Board of Commissioners, 500 South Grand Central Parkway, 6th Floor, Las Vegas, NV 89155 | Office of the Director of Public Works, 500 South Grand Central Parkway, 2nd Floor, Las Vegas, NV 89155 | Aug. 24, 2015 | 320003
Clark (FEMA Docket No.: B-1537) | Unincorporated areas of Clark County (15-09-1082P) | The Honorable Steve Sisolak, Chairman, Clark County Board of Commissioners, 500 South Grand Central Parkway, Las Vegas, NV 89155 | Office of the Director of Public Works, 500 South Grand Central Parkway, 2nd Floor, Las Vegas, NV 89155 | Oct. 14, 2015 | 320003
Clark (FEMA Docket No.: B-1519) | Unincorporated areas of Clark County (15-09-1167P) | The Honorable Steve Sisolak, Chairman, Clark County Board of Commissioners, 500 South Grand Central Parkway, Las Vegas, NV 89155 | Office of the Director of Public Works, 500 South Grand Central Parkway, 2nd Floor, Las Vegas, NV 89155 | Dec. 3, 2015 | 320003

[FR Doc. 2016-02909 Filed 2-11-16; 8:45 am]

BILLING CODE 9110-12-P